DEPARTMENT OF LABOR

Employment and Training Administration

[TA-W-38,983]

ZapatA Technologies, Inc.; Hazelton, Pennsylvania; Notice of Negative Determination Regarding Application for Reconsideration

By applications of May 9 and May 16, 2001, petitioners requested administrative reconsideration of the Department's negative determination regarding eligibility for workers and former workers of the subject firm to apply for Trade Adjustment Assistance (TAA). The denial notice applicable to workers of ZapatA Technologies, Inc., Hazelton, Pennsylvania, was issued on April 20, 2001, and was published in the Federal Register on May 9, 2001 (66 FR 23733).

Pursuant to 29 CFR 90.18(c) reconsideration may be granted under the following circumstances:

(1) If it appears on the basis of facts not previously considered that the determination complained of was erroneous;

(2) if it appears that the determination complained of was based on a mistake in the determination of facts not previously considered; or

(3) if in the opinion of the Certifying Officer, a misinterpretation of facts or of the law justified reconsideration of the decision.

The petitioners suggest that fifty percent of their work involved technical and support services, and that those intangible articles “are now being imported to various plants” including the ZapatA, Inc., Muskogee, Oklahoma plant, other U.S. and world-wide locations. The petitioners attached documentation from the company that effective February 1, 2001, technical information, business, sales, and technical services were to be transferred to a sister plant in Spain.

Only in very limited instances are service workers certified for TAA, namely the worker separations must be caused by a reduced demand for their services from a parent or controlling firm or subdivision whose workers produce an article and who are currently under a certification for TAA. If import impact had been established for the production workers at ZapatA Technologies, Inc., Hazelton, Pennsylvania, only then, could the petitioners be included in a certification for TAA.

The petitioners also described how the parent company, ZapatA International, who also sells crowns and enclosures to the bottling industry, has lost business to competitors. The Department's petition investigation under the Trade Act of 1974, was specifically for the workers at ZapatA Technologies, Inc., Hazelton, Pennsylvania. The petition investigation is conducted for the workers' appropriate firm or subdivision, not on a company-wide or industry-wide basis.

The Department's denial of the TAA petition filed on behalf of workers producing bottle cap manufacturing machinery at ZapatA finding that the contributed importantly criterion of Section 222 of the Trade Act of 1974, was not met. The production at the subject firm was primarily for the export market. Thus, the workers were not affected by increased imports. Although the company did shift production of bottle cap manufacturing machinery abroad, that is not a basis for worker group certification under the Trade Act.

Conclusion

After review of the application and investigative findings, I conclude that there has been no error or misinterpretation of the law or of the facts which would justify reconsideration of the Department of Labor's prior decision. Accordingly, the application is denied.

Signed at Washington, D.C., this 13th day of August 2001.
Edward A. Tomchick,
Director, Division of Trade Adjustment Assistance.

[FR Doc. 01-21847 Filed 8-28-01; 8:45 am]

BILLING CODE 4510-30-M